DEPARTMENT OF HOMELAND SECURITY

Transportation Security Administration

[Docket No. TSA-2004-19147]

Intent To Request Revision From OMB of One Current Public Collection of Information: Flight Training Security

AGENCY: Transportation Security Administration, DHS.

ACTION: 60-Day notice.

SUMMARY: The Transportation Security Administration (TSA) invites public comment on one currently approved Information Collection Request (ICR), Office of Management and Budget (OMB) control number 1652-0021, that we will submit to OMB for a revision, in compliance with the Paperwork Reduction Act (PRA). The ICR describes the nature of the information collection and its expected burden. The collection involves information necessary to conduct security threat assessments for all non-U.S. citizens, non-U.S. nationals, and other designated individuals seeking flight instruction (“candidates”) from Federal Aviation Administration (FAA)-certified flight training providers. Pursuant to statute, TSA will use the information collected to determine whether a candidate poses or is suspected of posing a threat to aviation or national security, and is thus prohibited from receiving flight training. Additionally, flight training providers are required to conduct a security awareness training program for their employees and to maintain records associated with this training.

DATES: Send your comments by October 25, 2021.

ADDRESSES: Comments may be emailed to TSAPRA@dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0021, Flight Training Security. Under 49 CFR part 1552, TSA conducts security threat assessments for all non-U.S. citizens, non-U.S. nationals, and other designated individuals seeking flight instruction with Federal Aviation Administration (FAA)-certified flight training providers.¹ The purpose of this requirement is to ensure flight training candidates do not pose a threat to aviation or national security and thus can be permitted to receive flight training. The collection of information required under 49 CFR part 1552 includes candidates' biographic information and fingerprints, which TSA uses to perform the security threat assessment.

¹ See also 49 U.S.C. 44939.

Additionally, flight training providers are required to maintain records of security awareness training provided to their employees. See subpart B of 49 CFR part 1552. This training, which is intended to increase awareness of suspicious circumstances and activities of individuals enrolling in, or attending, flight training, must be provided to certain employees within 60 days of being hired and on an annual recurring basis. The flight training providers must maintain records of the training completed throughout the course of the individual's employment, and for one year after the individual is no longer a flight training provider employee.

In accordance with the President's intent,² TSA is revising the information collection by changing the name of the collection from “Flight Training for Aliens and Other Designated Individuals; Security Awareness Training for Flight School Employees” to “Flight Training Security.” TSA and other DHS components have already begun using alternative terminology to “alien” in documentation and systems.

² Fact Sheet: President Biden Sends Immigration Bill to Congress as Part of His Commitment to Modernize our Immigration System | The White House.

TSA estimates a total of 39,496 respondents annually: 19,869 flight training candidates and 19,627 flight training providers. Respondents are required to provide the subject information every time a non-U.S. citizen, non-U.S. national, or other designated individual applies for flight training, as described in the regulation. TSA estimates a flight training application burden of 43,667 hours per year. Flight training providers must keep records for each flight training candidate and employee security awareness training. TSA estimates an annual average recordkeeping burden of 55,897 hours. Thus, TSA estimates the combined hour burden associated with this collection to be 99,564 hours annually.

Dated: August 19, 2021.
Christina A. Walsh,
TSA Paperwork Reduction Act Officer, Office of Information Technology.

[FR Doc. 2021-18225 Filed 8-24-21; 8:45 am]

BILLING CODE 9110-05-P